DEPARTMENT OF EDUCATION

Arbitration Panel Decisions Under the Randolph-Sheppard Act

AGENCY: Office of Special Education and Rehabilitative Services, Department of Education.

ACTION: Notice.

SUMMARY: This notice lists arbitration panel decisions under the Randolph-Sheppard Act that the Department of Education (Department) made publicly available in accessible electronic format during the second quarter of 2021. All decisions are available on the Department's website and by request.

FOR FURTHER INFORMATION CONTACT: James McCarthy, U.S. Department of Education, 400 Maryland Avenue SW, Room 5064D, Potomac Center Plaza, Washington, DC 20202-2800. Telephone: (202) 245-6703. Email: james.mccarthy@ed.gov.

If you use a telecommunications device for the deaf (TDD) or a text telephone (TTY), call the Federal Relay Service, toll-free, at 1-800-877-8339.

SUPPLEMENTARY INFORMATION: For the purpose of providing individuals who are blind with remunerative employment, enlarging their economic opportunities, and stimulating greater efforts to make themselves self-supporting, the Randolph-Sheppard Act, 20 U.S.C. 107 et seq. (Act), authorizes individuals who are blind to operate vending facilities on Federal property and provides them with a priority for doing so. The vending facilities include, among other things, cafeterias, snack bars, and automatic vending machines. The Department administers the Act and designates an agency in each State--the State licensing agency (SLA)—to license individuals who are blind to operate vending facilities on Federal and other property in the State.

The Act provides for arbitration of disputes between SLAs and vendors who are blind and between SLAs and Federal agencies before three-person panels, convened by the Department, whose decisions constitute final agency action. 20 U.S.C. 107d-1. The Act also makes these decisions matters of public record and requires their publication in the Federal Register. 20 U.S.C. 107d-2(c).

The Department publishes lists of Randolph-Sheppard Act arbitration panel decisions in the Federal Register. The full texts of the decisions listed are available on the Department's website (see below) or by request (see 82 FR 41941 (Sept. 5, 2017)). Older, archived decisions are also added to the Department's website as they are digitized.

In the second quarter of 2021, the Department received no new decisions, but posted the following seven decisions issued by Randolph-Sheppard arbitration panels between May 2013 and May 2016.

Case name | Docket No. | Date | State
Bird v. Ohio Rehabilitation Services Commission, Bureau of Services for the Visually Impaired | R-S/10-10 | 5/16/2013 | Ohio.
Bragg v. Tennessee Department of Human Services Division of Rehabilitation Services | R-S/10-11 | 1/28/2015 | Tennessee.
Kneip v. Idaho Commission for the Blind and Visually Impaired | R-S/12-03 | 6/22/2015 | Idaho.
Stelmach v. Michigan Bureau of Services for Blind Persons | R-S/13-04 | 12/16/2015 | Michigan.
Maryland State Department of Education v. United States General Services Administration | R-S/13-02 | 12/30/2015 | Maryland.
Altstatt v. Oklahoma Division of Rehabilitation Services | R-S/13/01 | 1/18/2016 | Oklahoma.
Murphy et al. v. California Department of Rehabilitation | R-S/12-10 | 2/04/2016 | California.

These decisions and other decisions that we have already posted are searchable by key terms, are accessible under Section 508 of the Rehabilitation Act of 1973, as amended, and are available in Portable Document Format (PDF) on the Department's website at www.ed.gov/programs/rsarsp/arbitration-decisions.html or by request to the person listed under FOR FURTHER INFORMATION CONTACT.

Accessible Format: Individuals with disabilities can obtain this document in an accessible format on request to the contact person listed under FOR FURTHER INFORMATION CONTACT. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or PDF. To use PDF, you must have Adobe Acrobat Reader, which is available free at the site.

You may also access documents of the Department published in the Federal Register by using the article search feature at www.federalregister.gov. Specifically, through the advanced search feature at this site, you can limit your search to documents published by the Department.

Katherine Neas,
Acting Assistant Secretary for the Office of Special Education and Rehabilitative Services.

[FR Doc. 2021-23989 Filed 11-2-21; 8:45 am]

BILLING CODE 4000-01-P